DEPARTMENT OF THE INTERIOR

Bureau of Land Management

[ES-032-03-1430-EQ; MNES-050222]

Notice of Realty Action; Noncompetitive Permit of Public Lands, Minnesota

AGENCY: Bureau of Land Management, Interior.

ACTION: Notice of realty action.

SUMMARY: The surface estate of land located in St. Louis County, Minnesota is being considered for a noncompetitive permit pursuant to section 302 of the Federal Land Policy and Management Act of 1976, as amended (43 U.S.C. 1732).

FOR FURTHER INFORMATION CONTACT: Paul J. Salvatore, Realty Specialist, Bureau of Land Management, Milwaukee Field Office, 310 W. Wisconsin Ave., Suite 450, Milwaukee, Wisconsin 53203, (414) 297-4413.

SUPPLEMENTARY INFORMATION: The Bureau of Land Management proposes to offer the use of the surface estate of the following described lands to Mr. David M. Stanton, by noncompetitive permit, at fair market value. The permit will allow for continued habitation on the site by Mr. Stanton and will resolve an inadvertent unauthorized use of public land.

Fourth Principal Meridian

Township 62 North, Range 17 West, Tract 37

The above lands aggregate 0.18 acre more or less.

The permit will be issued for 3 years. The permit may be renewed, in accordance with 43 CFR 2920.1-1(b) with the right of renewal through the remainder of Mr. Stanton's life. Upon expiration of the permitted use, all improvements will be removed from the public lands and the site rehabilitated. This action is consistent with the Minnesota Management Framework Plan and would serve important public objectives, which could not be achieved by other means. The planning document and environmental assessment covering the proposed permit are available for review at the Bureau of Land Management, Milwaukee Field Office, Milwaukee, Wisconsin.

For a period until November 24, 2003, interested parties may submit comments to the Field Manager, Milwaukee Field Office, Bureau of Land Management, 626 E. Wisconsin Avenue, Suite 200, Milwaukee, Wisconsin 53202-4617. Any adverse comments will be evaluated by the State Director, Eastern States Office, who may sustain, vacate, or modify this realty action. In the absence of any objections, this proposed realty action will become final.

This notice is being published in accordance with the regulations contained in 43 CFR 2920.4.

Dated: September 17, 2003.
James W. Dryden,
Milwaukee Field Manager.

[FR Doc. 03-25615 Filed 10-8-03; 8:45 am]

BILLING CODE 4310-PN-P